DEPARTMENT OF HEALTH AND HUMAN SERVICES

Food and Drug Administration

[Docket No. FDA-2014-N-0001]

Advisory Committee Renewals; Correction

AGENCY: Food and Drug Administration, HHS.

ACTION: Notice; correction.

SUMMARY: The Food and Drug Administration (FDA) is correcting a notice entitled “Advisory Committee Renewals” that appeared in the Federal Register of August 25, 2014 (79 FR 50658). The document announced the renewal of certain FDA advisory committees by the Commissioner of Food and Drugs. The table in the document contained several errors. This document corrects those errors.

FOR FURTHER INFORMATION CONTACT: Lisa Granger, Office of Policy, Food and Drug Administration, 10903 New Hampshire Ave., Bldg. 32, rm. 3330, Silver Spring, MD 20993-0002, 301-796-9115.

SUPPLEMENTARY INFORMATION: In the Federal Register of Monday, August 25, 2014, in FR Doc. 2014-20017, on page 50659 the table is corrected to read:

Name of committee | Date of expiration
Advisory Committee for Pharmaceutical Science and Clinical Pharmacology | January 22, 2016.
Gastrointestinal Drugs Advisory Committee | March 3, 2016.
Bone, Reproductive and Urologic Drugs Advisory Committee (formerly Reproductive Health Drugs Advisory Committee) | March 23, 2016.
Arthritis Advisory Committee | April 5, 2016.
Pharmacy Compounding Advisory Committee | April 25, 2016.
Anesthetic and Analgesic Drugs Advisory Committee | May 1, 2016.
Blood Products Advisory Committee | May 13, 2016.
Pulmonary-Allergy Drugs Advisory Committee | May 30, 2016.
Drug Safety and Risk Management Advisory Committee | May 31, 2016.
Science Advisory Board to the National Center for Toxicological Research | June 2, 2016.
Peripheral and Central Nervous System Drugs Advisory Committee | June 4, 2016.
Psychopharmacologic Drugs Advisory Committee | June 4, 2016.
Transmissible and Spongiform Encephalopathies Advisory Committee | June 9, 2016.
Science Board to the Food and Drug Administration | June 26, 2016.
Allergenic Products Advisory Committee | July 9, 2016.

Dated: September 3, 2014.
Jill Hartzler Warner,
Associate Commissioner for Special Medical Programs.

[FR Doc. 2014-21369 Filed 9-8-14; 8:45 am]

BILLING CODE 4164-01-P